SMALL BUSINESS ADMINISTRATION

[License No. 01/01-0420]

BCA Mezzanine Fund II, L.P.; Surrender of License of Small Business Investment Company

Pursuant to the authority granted to the United States Small Business Administration under the Small Business Investment Act of 1958, as amended, under Section 309 of the Act and Section 107.1900 of the Small Business Administration Rules and Regulations (13 CFR 107.1900) to function as a small business investment company under the Small Business Investment Company License No. 01/01-0420 issued to BCA Mezzanine Fund II, L.P., said license is hereby declared null and void.

United States Small Business Administration.
Bailey DeVries,
Associate Administrator, Office of Investment and Innovation.

[FR Doc. 2021-28102 Filed 12-27-21; 8:45 am]

BILLING CODE P